DEPARTMENT OF TRANSPORTATION

Federal Aviation Administration

Best Equipped Best Served

AGENCY: Department of Transportation, Federal Aviation Administration.

ACTION: Notice of meeting.

SUMMARY: The FAA is conducting a public meeting to seek technical input on proposed operational incentive scenarios for possible implementation in the 2012-2014 timeframe. The discussion will be limited to technical and operational implications of these selected scenarios. The candidate proposals for discussion have been designed to deliver on the best equipped, best performing, best served concept for implementation in the 2012-2014 timeframe. The proposed scenarios target use of the following NextGen technologies: ADS-B Out and In and RNAV/RNP 0.3 with and without RF Legs. This meeting is focused on technical considerations; before implementation of any potential scenario the FAA would conduct the necessary reviews and opportunities for public notice and comment as appropriate.

FOR FURTHER INFORMATION CONTACT: Christopher Hillers, Office of Aviation Policy and Plans: Telephone (202) 267-3274: Email: 9-AWA-APO-Ops-Incentives@FAA.gov.

SUPPLEMENTARY INFORMATION:

Background

FAA has been analyzing and developing operational incentives for several years with the purpose of implementing a best equipped, best performing, best served policy. Best equipped, best served (BE-BS) has also been widely discussed in various industry forums, including the recent recommendations that were made by the Future of Aviation Advisory Committee (FAAC) and NextGen Advisory Committee (NAC). FAA is seeking stakeholder input on the technical and operational feasibility of the proposed scenarios from an operator and airport perspective.

Meeting Information

Public meeting at FAA Headquarters (800 Independence Avenue SW., Washington, DC 20591) on March 13, 2012 from 8:30 a.m. to 12:30 p.m. The meeting will also be available to view on-line. Details of participation by Web cast can be found at http://www.faa.gov/go/2012opsincentivesmeeting/. RSVPs will be required in order to attend the meeting in person, and requested for participants intending to view the Web cast. RSVP by March 9 to: 9-AWA-APO-Ops-Incentives@FAA.gov.

Descriptions of each of the operational scenarios for discussion at the March 13 meeting can be obtained at: http://www.faa.gov/go/2012opsincentivesmeeting/. FAA will accept clarifying questions about these proposals via email at 9-AWA-APO-Ops-Incentives@FAA.gov. Clarifying questions submitted in advance of the March 13 meeting will be addressed at the meeting, if possible. Comments specifically addressing these proposed operational scenarios will be accepted through March 20 and should be submitted to: 9-AWA-APO-Ops-Incentives@FAA.gov.

Issued in Washington, DC, on February 28, 2012.
Nan Shellabarger,
Director Office of Aviation Policy and Plans.

[FR Doc. 2012-5304 Filed 3-2-12; 8:45 am]

BILLING CODE 4910-13-P